DEPARTMENT OF DEFENSE

Department of the Army; Corps of Engineers

Notice of Availability of the Draft Environmental Impact Statement/Environmental Impact Report for the Proposed Prado Basin Water Supply, Riverside and San Bernardino Counties, CA

AGENCY: Department of the Army, U.S. Army Corps of Engineers, DOD.

ACTION: Notice of availability.

SUMMARY: The U.S. Army Corps of Engineers has prepared a Draft Environmental Impact Statement/Environmental Impact Report (EIS/EIR) and a Feasibility Report for the Proposed Prado Basin Water Supply, which will result in increasing the water storage pool during the flood season, from an elevation of 494 feet to an elevation of 498 feet, within Prado Basin. This will enable increased water recharge at the Orange County Water District's recharge facilities downstream of Prado Dam.

The proposed project will allow storage of water, between elevations 494 and 498 feet, between the months of October and March. Current water conservation within Prado Basin allows for storage of water at elevation 494 during the winter months, and up to an elevation of 505 feet between March and October. The proposed project will allow storage of water at a higher elevation during the winter season, with the pool being evacuated before any storm flows enter the basin. This will ensure that there is no impact to the flood control capacity of the Prado Dam.

The proposed project is not expected to have any significant environmental impacts. Storing water within Prado Basin and releasing at a rate supporting downstream recharged by Orange County Water District is expected to benefit the population of Orange County by increasing the amount of water being stored within the local aquifer, thereby reducing the dependence on outside water sources. No long-term adverse ecological or environmental health effects are expected due to the proposed water storage.

DATES: The draft EIS/EIR will be released for public review on or about August 20, 2004. The Environmental Protection Agency plans to publish a Notice of Availability of the Draft EIS/EIR in the Federal Register on or about August 20, 2004. Comments concerning this Draft EIS/EIR should be submitted by October 4, 2004.

ADDRESSES: Submit written comments to District Engineer, U.S. Army Corps of Engineers, Los Angeles District, ATTN: Mr. Alex Watt, CESPL-PD-RQ, P.O. Box 532711, Los Angeles, CA 90053-2325.

FOR FURTHER INFORMATION CONTACT: For information on the Draft EIS/EIR, contact Mr. Alex Watt, Environmental Coordinator, U.S. Army Corps of Engineers, Los Angeles District, at (213) 451-3860. For further information on the Draft Feasibility Report, contact Mr. Robert Stuart, Study Manager, U.S. Army Corps of Engineers, Los Angeles District, at (213) 451-3811.

SUPPLEMENTARY INFORMATION: 1. Authorization: Prado Dam was authorized by the Flood Control Act of June 22, 1936, Public Law 74-738, as amended. The authority to study the feasibility of water conservation at Prado Dam is provided by the resolution of the Committee on Public works of the House of Representatives dated May 8, 1964.

2. Background: Prado Dam and Flood Control Basin are located on the Santa Ana River, approximately 31 miles upstream from the mouth of the river at the Pacific Ocean. The dam is owned and operated by the U.S. Army Corps of Engineers. The dam and basin are located in Riverside County, CA, approximately 3 miles upstream from the Riverside-Orange County line.

The Army Corps of Engineers has prepared a draft EIS/EIR to assess the environmental effects associated with the proposed Prado Basin Water Supply project to increase the level of the water storage pool during the flood season, from an elevation of 494 feet to elevation 498 feet, within Prado Basin. This will enable increased water recharge at the Orange County Water District's recharge facilities downstream of Prado Dam. The Orange County Water District (OCWD) is the non-federal sponsor for the project. The OCWD participated in the study and contributed to the development of the alternatives for water conservation.

The proposed project will allow storage of water, between elevations 494 and 498 feet, between the months of October and March. Current water conservation within Prado Basin allows for storage of water only to elevation 494 during the winter months, and up to an elevation of 505 feet between March and October. The proposed project will allow storage of water at a higher elevation during the winter season, with the pool being evacuated before any storm flows enter the basin. This will ensure that there is no impact to the flood control capacity of the Prado Dam. The public will have the opportunity to comment on this analysis before any action is taken to implement the proposed action.

3. Proposed Action. The proposed project will allow storage of water, between elevations 494 and 498 feet, between the months of October and March. Current water conservation within Prado Basin allows for storage of water only to elevation 494 during the winter months, and up to an elevation of 505 feet between March and October. The proposed project will allow storage of water at a higher elevation during the winter season, with the pool being evacuated before any storm flows enter the basin. This will ensure that there is no impact to the flood control capacity of the Prado Dam.

4. Alternatives: Five alternatives, including a No Action alternative, are evaluated in the Draft EIS/EIR. The alternatives examine conserving water up to different elevations during the flood and non-flood seasons. The flood season is considered be the period from October 1 through February 28 of each year.

5. Scoping Process: The Army Corps of Engineers conducted a scoping meeting prior to preparing the EIS/EIR to aid in determining the significant environmental issues associated with the proposed action. The meeting was held in the City of Corona, California, on November 17, 1997. A public hearing to receive comments on the Draft EIS/EIR will be held in conjunction with the public meeting to present the feasibility report. The location, date, and time of the public hearing will be announced in the local news media, and separate notice will also be sent to all parties on the project mailing list.

Participation by all interested Federal, State and County resource agencies, as well as Native American peoples, groups with environmental interests, and all interested individuals is encouraged. The public review period will conclude 45 days after publication of this notice.

Individuals and agencies may offer information or data relevant to the environmental or socioeconomic impacts by attending the public scoping meeting, or by mailing the information to Mr. Alex Watt at the address provided in this notice prior to October 4, 2004. Comments, suggestions, and requests to be placed on the mailing list for announcements and for the Draft DEIS, should also be sent to Alex Watt. The U.S. Army Corps of Engineers and the OCWD, the non-federal sponsor, will consider public concerns on the Draft EIS/EIR. A summary of the Public Hearing and written comment letters and responses will be incorporated into the Final EIS/EIR as appropriate.

6. Availability of the Draft EIS: Copies of the Draft EIS/EIR are available for review at the following locations:

(1) U.C. Riverside General Library, Government Documents, 900 University Avenue, Riverside, CA 92517.

(2) C.S.U. Fullterton Library, 800 N. State College, Fullterton, CA 92833.

(3) Chino Branch Library, 13160 Central Avenue, Chino, CA 91710.

(4) City of Anaheim, Main Library, 500 W. Broadway, Anaheim, CA 92805.

(5) Corona Public Library, 650 S. Main Street, Corona, CA 92882.

(6) Orange County Public Library, 17565 Los Alamos, Fountain Valley, CA 92708.

(7) Norco Public Library, 3954 Old Hamner Road, Norco, CA 91760.

(8) Orange County Water District, 10500 Ellis Avenue, Fountain Valley, CA 92728.

(9) U.S. Army Corps of Engineers, Los Angeles District, Environmental Resources Branch, 915 Wilshire Boulevard, 14th Floor, Lost Angeles, CA 90053.

Brenda S. Bowen,
Army Federal Register Liaison Officer.

[FR Doc. 04-19116 Filed 8-19-04; 8:45 am]

BILLING CODE 3710-KF-M